DEPARTMENT OF TRANSPORTATION

Federal Aviation Administration

Notice of intent to rule on Request To Release Airport Property at the City-County Airport, Madras, OR

AGENCY: Federal Aviation Administration (FAA), DOT.

ACTION: Notice of Request to Release Airport Property.

SUMMARY: The FAA proposes to rule and invite public comment on the release of land at City-County Airport under the provisions of Section 125 of the Wendell H. Ford Aviation Investment Reform Act for the 21st Century (AIR 21), now 49 U.S.C. 47107(h)(2).

DATES: Comments must be received on or before March 12, 2003.

ADDRESSES: Comments on this application may be mailed or delivered to the FAA at the following address: Mr. J. Wade Bryant, Manager, Federal Aviation Administration, Northwest Mountain Region, Airports Division, Seattle Airports District Office, 1601 Lind Avenue, SW., Suite 250, Renton, Washington 98055-4056.

In addition, one copy of any comments submitted to the FAA must be mailed or delivered to Mr. Mike Ahern, County Commission Chair or The Honorable Rick Allen, Mayor of City of Madras, at the following address: Mr. Mike Ahern, Jefferson County Commission Chair, Jefferson County Board of Commissioners, 66 SE D Street, Suite A, Madras, OR 97741, The Honorable Rick Allen, Mayor, City of Madras, 71 SE D Street, Madras, OR 97741.

FOR FURTHER INFORMATION CONTACT: Mr. William L. Watson, OR/ID Section Supervisor, Federal Aviation Administration, Northwest Mountain Region, Seattle Airports District Office, 1601 Lind Avenue, SW., Suite 250, Renton, Washington 98055-4056.

The request to release property may be reviewed, by appointment, in person at this same location.

SUPPLEMENTARY INFORMATION: The FAA invites public comment on the request to release property at the City-County International Airport under the provisions of the AIR 21 (49 U.S.C. 47107(h)(2)).

On January 22, 2003, the FAA determined that the request to release property at City-County Airport submitted by the airport meets the procedural requirements of the Federal Aviation Administration. The FAA may approve the request, in whole or in part, no later than March 12, 2003.

The following is a brief overview of the request:

City-County Airport is proposing the release of approximately 20 acres of airport property so the property can be sold to the county for use as a jail site (site currently houses county jail on land leased from the airport). The revenue made from this sale will be used toward Airport Capital Improvement.

Any person may inspect, by appointment, the request in person at the FAA office listed above under FOR FURTHER INFORMATION CONTACT.

In addition, any person may, upon appointment and request, inspect the application, notice and other documents germane to the application in person at City-County Airport.

Issued in Renton, Washington on January 22, 2003.
J. Wade Bryant,
Manager, Seattle Airports District Office.

[FR Doc. 03-3271 Filed 2-7-03; 8:45 am]

BILLING CODE 4910-13-M